DEPARTMENT OF STATE

[Public Notice 10971]

30-Day Notice of Proposed Information Collection: Application To Determine Returning Resident Status

ACTION: Notice of request for public comment.

SUMMARY: The Department of State (Department) is seeking Office of Management and Budget (OMB) approval for the information collection described below. In accordance with the Paperwork Reduction Act of 1995, we are requesting comments on this collection from all interested individuals and organizations. The purpose of this notice is to allow 30 days for public comment.

DATES: Submit comments directly to the Office of Management and Budget (OMB) January 9, 2020.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Taylor Beaumont, who may be reached at (202) 485-7586 or PRA_BurdenComments@state.gov.

SUPPLEMENTARY INFORMATION:

• Title of Information Collection: Application to Determine Returning Resident Status.

• OMB Control Number: 1405-0091.

• Type of Request: Extension of a Currently Approved Collection.

• Originating Office: CA/VO/L/R.

• Form Number: DS-117.

• Respondents: Immigrant Visa Petitioners.

• Estimated Number of Respondents: 4,400.

• Estimated Number of Responses: 4,400.

• Average Time per Response: 30 Minutes.

• Total Estimated Burden Time: 2,200 Hours.

• Frequency: Once.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Under Section 101(a)(27)(A) of the Immigration and Nationality Act (“INA”), 8 U.S.C. 1101, a special immigrant is defined as an immigrant, lawfully admitted for permanent residence, who is returning from a temporary visit abroad. INA § 203(b)(4) generally authorizes issuance of an immigrant visa to such “special immigrants” as defined in INA § 101(a)(27). Department of State regulations at 22 CFR 42.22 provide that such applicants may be issued a returning resident special immigrant visa if he or she remained out of the United States for a protracted period due to reasons outside of his or her control for which he or she was not responsible. 22 CFR 42.22. The DS-117 is used, in addition to a personal interview, to collect information necessary to determine a returning resident's eligibility for a special immigrant visa.

Methodology

Applicants will submit the DS-117 electronically via email, or print the form and submit it at the time of their interview at a U.S. embassy or consulate.

Edward J. Ramotowski,
Deputy Assistant Secretary.

[FR Doc. 2019-26512 Filed 12-9-19; 8:45 am]

BILLING CODE 4710-06-P